NATIONAL FOUNDATION ON THE ARTS AND THE HUMANITIES

Meeting of Humanities Panel

AGENCY: The National Endowment for the Humanities.

ACTION: Notice of meeting.

SUMMARY: Pursuant to the provisions of the Federal Advisory Committee Act (Pub. L. 2-463, as amended), notice is hereby given that a meeting of the Humanities Panel will be held at the Old Post Office, 1100 Pennsylvania Avenue, NW., Washington, DC 20506.

DATES: The meeting will be held Monday, March 6, 2006, at 9 a.m.-2 p.m.

ADDRESSES: The meeting will be held in Room 507 at the Old Post Office, 1100 Pennsylvania Avenue, NW., Washington, DC 20506.

FOR FURTHER INFORMATION CONTACT: Michael McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The purpose of the meeting of this Humanities Panel is to collect advice regarding humanities programming involving technology and digitization, and to plan future activities of the Endowment, pursuant to the National Foundation on the Arts and the Humanities Act of 1965, as amended. The meeting is open to the public. A 10-minute time slot is reserved for public comments at the end of the meeting.

Michael McDonald,
Advisory Committee Management Officer.

[FR Doc. E6-2572 Filed 2-22-06; 8:45 am]

BILLING CODE 7536-01-P